DEPARTMENT OF COMMERCE

National Oceanic and Atmospheric Administration

[I.D. 061402C]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on July 8-12, 2002.

ADDRESSES: These meetings will be held at the Hyatt Sarasota Hotel, 1000 Boulevard of the Arts, Sarasota, FL 34236; telephone: 941-953-1234.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

July 10

8:30 a.m.—Convene.

8:45 a.m.-12 noon—Receive public testimony on the Secretarial Reef Fish Amendment 1/Draft Supplemental Environmental Impact Statement (DSEIS).

1:30 p.m.-5 p.m.—Continue public testimony if necessary.

July 11

8:30 a.m.-11:30 a.m.—Continue public testimony if necessary.

1 p.m.-1:15 p.m.—Receive the report of the Spiny Lobster Management Committee.

1:15 p.m.-2 p.m.—Receive a report of the Habitat Protection Committee.

2 p.m.—2:30 p.m.—Receive a report of the Shrimp Management Committee.

2:30 p.m.-5 p.m.—Receive a report of the Reef Fish Management Committee.

July 12

8:30 a.m.-10 a.m.—Continue the report of the Reef Fish Management Committee, if necessary.

10 a.m.-10:15 a.m.—Receive a report of the Council Chairmen’s meeting.

10:15 a.m.-10:30 a.m.—Receive the South Atlantic Fishery Management Council Liaison Report.

10:30 a.m.-10:45 a.m.—Receive a report of the Stock Assessment Workshop meeting.

10:45 a.m.-11 a.m.—Receive the International Commission for the Conservation of Atlantic Tunas Advisory Committee report.

11 a.m.-11:15 a.m.—Receive Enforcement Reports.

11:15 a.m.-11:30 a.m.—Receive the NMFS Regional Administrator’s Report.

11:30 a.m.-11:45 a.m.—Receive Director’s Reports.

11:45 a.m.-12 noon—Other Business.

Committees

July 8

9 a.m.-12 noon—Convene the Habitat Protection Committee to review a Preliminary Draft of the Programmatic Environmental Impact Statement (PEIS) for the Generic Essential Fish Habitat (EFH) Amendment.

1:30 p.m.-5:30 p.m.—Convene the Shrimp Management Committee to review a preliminary Options Paper for Shrimp Amendment 13, to hear presentations on the status of the condition of shrimp stocks, on the evaluation of the Tortugas shrimp fishery, and the recommendations of the Shrimp Stock Assessment Panel for criterion to assess the status of each shrimp stock.

July 9

8:30 a.m.-12 noon—Convene the Reef Fish Management Committee to hear a progress report of the Ad Hoc Red Snapper Advisory Panel (AP) on development of individual fishing quota (IFQ) profile. They will then review and make recommendations for the full Council for final action on the Draft Secretarial Amendment 1 for Red Grouper/SEIS. The full Council will consider these recommendations on Thursday afternoon and Friday morning. The Committee will also review the first draft of an amendment for a rebuilding program for amberjack.

1:30 p.m.-3:30 p.m.—Continue the Reef Fish Management Committee.

3:30 p.m.-5 p.m.—Convene the Spiny Lobster Management Committee to review the proposed Florida Fish and Wildlife Conservation Commission (FFWCC) rule on increasing the possession limit for undersized lobster.

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council’s intent to take final action to address the emergency. A copy of the Committee schedule and agenda can be obtained by calling (813) 228-2815.

Special Accommodations

These meetings are physically accessible to people with disabilities. Requests for sign language interpretation or other auxiliary aids should be directed to Anne Alford at the Council (see ADDRESSES) by July 1, 2002.

Dated: June 14, 2002.
Richard W. Surdi,
Acting Director, Office of Sustainable Fisheries, National Marine Fisheries Service.

[FR Doc. 02-15885 Filed 6-21-02; 8:45 am]

BILLING CODE 3510-22-S